DEPARTMENT OF THE INTERIOR

National Park Service

Notice of Inventory Completion for Native American Human Remains and Associated Funerary Objects in the Possession of the Williamson Museum, Northwestern State University of Louisiana, Natchitoches, LA

AGENCY: National Park Service, Interior.

ACTION: Notice.

Notice is hereby given in accordance with provisions of the Native American Graves Protection and Repatriation Act (NAGPRA), 43 CFR 10.9, of the completion of an inventory of human remains and associated funerary objects in the possession of the Williamson Museum, Northwestern State University of Louisiana, Natchitoches, LA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Williamson Museum, Northwestern State University of Louisiana, professional staff in consultation with representatives of the Caddo Indian Tribe of Oklahoma.

In the 1960s, human remains representing a minimum of one individual were recovered from the Cedar Bluff site (16WN1), Winn Parish, LA, by Clint Pine and H.F. Gregory, who donated these remains to the Williamson Museum, Northwestern State University of Louisiana. No known individual was identified. No associated funerary objects are present.

Cedar Bluff is located within 12-15 miles of sites known to have been inhabited by two historic Caddoan speaking groups, the Natchitoches and Doustioni. The archeological sequence derives these tribal entities directly from a long occupation of northwestern Louisiana by these Caddoan tribal groups. Surface collections including sherds and projectile points suggest a Caddo II-III (Belcher-Bossier phase, circa A.D. 1200-1500) affiliation for this site.

In 1939-40, human remains representing one individual were recovered from the Lawton Gin site, Natchitoches Parish, LA, by an unknown person. In the 1960s, the remains were donated to the Williamson Museum, Northwestern State University of Louisiana, by Caroline Dormon. Information in the Dormon Papers in Northwestern State University of Louisiana Archives indicates that these remains were taken from the Lawton Gin site. No known individual was identified. No associated funerary objects are present.

The Lawton Gin site is a postcontact site, dating to the 1700s. Consultation with the Caddo Tribe has identified these remains as Caddo. In addition, archeological evidence from this and contemporaneous sites was used to define the Lawton Phase (A.D. 1714-1800), which has been culturally identified with the Natchitoches confederacy of the Caddo. Lawton Phase sites cluster around Natchitoches, which was established as a French trading post in 1714. While other tribes visited the area to trade, the Native American settlements were Caddoan. The archeological evidence for the cultural continuity between Lawton Phase sites and the Caddo Tribe consists primarily of ceramic styles, vessel forms, and geographical locations. The historical record includes documentary and cartographic materials describing the Natchitoches confederacy of the Caddo Tribe, which lived along the Red River near Natchitoches.

In the 1970s, human remains representing a minimum of one individual were recovered from the J.C. LaCaze site, Natchitoches Parish, LA, by Northwestern State University of Louisiana students, who donated them to the Williamson Museum, Northwestern State University of Louisiana. No known individual was identified. No associated funerary objects are present.

The remains were collected from the surface of a plowed field. Sherd collections suggest that this midden site dates to Caddo I period (A.D. 900-1200). Archeological evidence in northwestern Louisiana, eastern Texas, and southwestern Arkansas suggests that the contemporary Caddo people are the descendants of peoples whose cultural development began in the Caddo I period.

In the 1980s, human remains representing a minimum of one individual were recovered from the Luster site (16NA403), Bayou Terre Blanche, Natchitoches Parish, LA, by H.F. Gregory and Randall Pleasant, who donated them to the Williamson Museum, Northwestern State University of Louisiana. No known individual was identified. No associated funerary objects are present.

The remains were collected from the backdirt of a pot-hunter's excavation. Sherd collections from this midden seem to date it to the Caddo III-IV periods (A.D. 1200-1400). The Adaes were the nearest historic Caddoan group. To the north were historic Yatasi villages, and about 16 miles east were the Natchitoches villages. All of these groups are Caddoan speakers.

Based on the above-mentioned information, officials of the Williamson Museum, Northwestern State University of Louisiana, have determined that, pursuant to 43 CFR 10.2 (d)(1), the human remains listed above represent the physical remains of four individuals of Native American ancestry. Officials of the Williamson Museum, Northwestern State University of Louisiana, also have determined that, pursuant to 43 CFR 10.2 (e), there is a relationship of shared group identity that can be reasonably traced between these Native American human remains and the Caddo Indian Tribe of Oklahoma.

This notice has been sent to officials of the Caddo Indian Tribe of Oklahoma. Representatives of any other Indian tribe that believes itself to be culturally affiliated with these human remains should contact Dr. Pete Gregory, Director, Williamson Museum, Northwestern State University of Louisiana, Natchitoches, LA 71497, telephone (318) 357-8170, before July 23, 2001. Repatriation of the human remains to the Caddo Indian Tribe of Oklahoma may begin after that date if no additional claimants come forward.

Dated: May 25, 2001.
John Robbins,
Assistant Director, Cultural Resources Stewardship and Partnerships.

[FR Doc. 01-15562 Filed 6-20-01 ; 8:45 am]

BILLING CODE 4310-70-F